NATIONAL AERONAUTICS AND SPACE ADMINISTRATION

[Notice (00-020)]

Agency Information Collection: Submission for OMB Review, Comment Request

AGENCY: National Aeronautics and Space Administration (NASA).

ACTION: Notice of agency report forms under OMB review.

SUMMARY: The National Aeronautics and Space Administration has submitted to the Office of Management and Budget (OMB) the following proposal for the collection of information under the provisions of the Paperwork Reduction Act (44 U.S.C. Chapter 35).

DATES: Comments on this proposal should be received on or before March 30, 2000.

ADDRESSES: All comments should be addressed to Mr. John Yadvish, Code RW, National Aeronautics and Space Administration, Washington, DC 20546.

FOR FURTHER INFORMATION CONTACT: Ms. Carmela Simonson, Office of the Chief Information Officer, (202) 358-1223.

Reports: None.

Title: NASA Small Business Innovative Research Commercial Metrics.

OMB Number: 2700-0095.

Type of Review: Extension.

Need and Uses: Collection is to assess the contribution of NASA funded SBIR Technology to the national economy in accordance with NASA's obligations under the Government Performance and Results Act of 1993 to contribute to the nation's economic well being and to measure that contribution.

Affected Public: Business or other for-profit.

Estimated Number of Respondents: 897.

Responses Per Respondent: 1.

Estimated Annual Responses: 200.

Estimated Hours Per Request: 1 hrs.

Estimated Annual Burden Hours: 200.

Frequency of Report: Annually.

David B. Nelson,
Deputy Chief Information Officer, Office of the Administrator.

[FR Doc. 00-4736 Filed 2-28-00; 8:45 am]

BILLING CODE 7510-01-P